DEPARTMENT OF HEALTH AND HUMAN SERVICES

Administration for Community Living

[OMB No. 0985-0004]

Agency Information Collection Activities; Proposed Collection; Comment Request; Title III Supplemental Form to Financial Status Report (SF-425)

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Extension without Change and solicits comments on the information collection requirements related to Title III Supplemental Form to Financial Status Report (SF-425).

DATES: Comments on the collection of information must be submitted electronically by 11:59 p.m. (EST) or postmarked by October 19, 2020.

ADDRESSES: Submit electronic comments on the collection of information to: Alice Kelsey. Submit written comments on the collection of information to Administration for Community Living, Washington, DC 20201, Attention: Alice Kelsey.

FOR FURTHER INFORMATION CONTACT: Alice Kelsey, Administration for Community Living, Washington, DC 20201, (202) 795-7342, Alice.Kelsey@ACL.hhs.gov.

SUPPLEMENTARY INFORMATION: Under the PRA (44 U.S.C. 3501-3520), Federal agencies must obtain approval from the Office of Management and Budget (OMB) for each collection of information they conduct or sponsor. “Collection of information” is defined in the PRA and includes agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Title III Supplemental Form to the Financial Status Report (SF-425) is used by ACL/AoA for all grantees to obtain a more detailed understanding of how projects funded under Title III of the Older Americans Act (OAA) of 1965, as amended, are being administered, and to ensure compliance with legislative requirements, pertinent Federal regulations and other applicable instructions and guidelines issued by the ACL. The level of data detail necessary is not available through the SF-425 form. The Supplemental Form provides necessary details on non-federal required match, administration expenditures, and Long Term Care Ombudsman expenditures. The proposed data collection tools are on the ACL website for review and public comment, please visit https://www.acl.gov/about-acl/public-input.

Estimated Program Burden: ACL estimates the burden associated with this collection of information as follows: 56 State Units on Aging (SUA) respond semi-annually which have an average estimated burden of 2 hours per grantee for a total of 224 hours annually.

Respondent/data collection activity | Number of respondents | Responses per respondent | Hours per response | Annual burden hours
Title III Supplemental Form to the Financial Status Report | 56 | 2 | 2 | 224
Total | 56 | 2 | 2 | 224

Dated: August 13, 2020.
Lance Robertson,
ACL Administrator and Assistant Secretary for Aging.

[FR Doc. 2020-18110 Filed 8-18-20; 8:45 am]

BILLING CODE 4154-01-P